FEDERAL MARITIME COMMISSION

Ocean Transportation Intermediary License; Applicants

Notice is hereby given that the following applicants have filed with the Federal Maritime Commission an application for license as a Non-Vessel—Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel—Operating Common Carrier Ocean Transportation Intermediary Applicants

BXC, Incorporated, 870 Springfield Road South, Union, NJ 07083. Officers: Angela Flynn, Vice President (Qualifying Individual) Bernard X. Conlon, President.

Quisqueyana Express, Inc., 4468 Broadway, New York, NY 10040. Officers: Francisco J. Julia, Secretary (Qualifying Individual) Ernesto J. Armenteros, Director.

Overseas Transport USA Corp., 3752 S.W. 30th Avenue, Ft. Lauderdale, FL 33312. Officers: Luca Minna, Vice President (Qualifying Individual) Riccardi Caropreso, President.

c&c International, Inc., 482 Thomas Drive, Bensenville, IL 60106. Officer: Si Yong Chang, President (Qualifying Individual).

Non-Vessel—-Operating Common Carrier and Ocean Freight Forwarder Transportation Intermediary Applicants

Jet Air Delivery, Inc. dba Transgroup International, dba Transfreight Express Lines dba Transgroup International, 4980 Amelia Earhart Drive, Salt Lake City, UT 84116. Officer: John C. Knowlton, President (Qualifying Individual).

ORD ICO, LLC dba Transgroup International, dba Transfreight Express Lines dba Transgroup International, 1400 Mittel Blvd., Suite A, Wood Dale, IL 60191. Officers: Greg Vernoy, Manager (Qualifying Individual).

Trans LAX, LLC dba Transgroup International dba Transfreight Express Lines dba Transgroup International, 13200 Broadway, Los Angeles, CA 90061. Officers: Greg Vernoy, Manager/Member (Qualifying Individual) Christine Dearden, Member.

Trans ICO, LLC dba Transfreight Express Lines dba Transgroup International, 235 Trumbull Street, Elizabeth, NJ 07206. Officer: Greg Vernoy, Manager (Qualifying Individual).

Ocean Freight Forwarder—Ocean Transportation Intermediary Applicant

Coastal International Logistics, LLC, 1420 Vantage Way, Suite 112, Jacksonville, FL 32218. Officers: Christopher S. Hood, Vice President (Qualifying Individual) Haddon N. Allen, President.

Dated: November 13, 2006.
Bryant L. VanBrakle,
Secretary.

[FR Doc. E6-19391 Filed 11-15-06; 8:45 am]

BILLING CODE 6730-01-P